NUCLEAR REGULATORY COMMISSION

[Docket No. 50-271; License No. DPR-28; NRC-2011-0074]

Entergy Nuclear Operations, Inc., Entergy Nuclear Vermont Yankee, LLC, Vermont Yankee Nuclear Power Station, Receipt of Request for Action

Notice is hereby given that by petition dated January 14, 2011, Mr. Thomas Saporito has requested that pursuant to Title 10 of the Code of Federal Regulations (10 CFR), Section 2.206, “Requests for Action under this Subpart,” the U.S. Nuclear Regulatory Commission (NRC) take action with regard to the Vermont Yankee Nuclear Power Station (VY).

Mr. Saporito requested in his petition that the NRC (1) Issue a confirmatory order requiring the licensee to immediately bring the reactor in question to a cold shutdown mode of operation; (2) issue a civil penalty against the licensee; (3) remove the licensee's employees responsible for this matter from NRC-licensed activities for a period of no less than 5 years; and (4) perform an immediate NRC investigation and inspection of VY to ensure that all nuclear safety-related systems are properly operational in accordance with the licensee's technical specification and NRC license.

The Petition Review Board (PRB) met on January 24, 2011, to discuss the petition and denied the request for immediate action to bring VY to a cold shutdown mode of operation and to perform an immediate NRC investigation and inspection of VY because the PRB did not identify any urgent public health and safety concerns that would warrant an immediate shutdown and NRC investigation and inspection.

On January 24, 2011, Mr. Saporito was informed of the PRB's decision on the immediate action, and he requested an opportunity to address the PRB before its initial meeting to provide supplemental information for the Board's consideration. By teleconference on January 26, 2011, Mr. Saporito provided information to the PRB as further explanation and support for the petition. A copy of the transcript is available in the NRC's Agencywide Documents Access and Management System (ADAMS) under Accession No. ML110330256.

The PRB met on February 2, 2011, to discuss the petition and made an initial recommendation to accept the petition in part concerning the failure of relief valve because this issue met the criteria for review.

On February 8, 2011, Mr. Saporito was informed of the PRB's initial recommendation to accept the petition in part, and Mr. Saporito requested another opportunity to address the PRB to provide comments to the PRB's initial recommendation and additional information in support of the petition. By teleconference on February 14, 2011, Mr. Saporito provided information to the PRB in support of his request for an immediate shutdown and an immediate NRC investigation and inspection of VY. A copy of the transcript is available in ADAMS under Accession No. ML110330256.

The PRB confirmed its initial recommendation because the additional information provided on February 14, 2011, did not change the PRB's decision to deny the request for immediate action.

The requests are being treated pursuant to 10 CFR 2.206 of the Commission's regulations. The requests have been referred to the Director of the Office of Nuclear Reactor Regulation. As provided by 10 CFR 2.206, appropriate action will be taken on this consolidated petition within a reasonable time.

A copy of the petition is available to the public from the NRC's Agencywide Documents Access and Management System (ADAMS) in the public Electronic Reading Room on the NRC Web site at http://www.nrc.gov/reading-rm/adams.html under ADAMS Accession No. ML110190233, and is available for inspection at the Commission's Public Document Room, located at One White Flint North, 11555 Rockville Pike (first floor), Rockville, Maryland.

Dated at Rockville, Maryland, this 28th day of March 2011.
For the Nuclear Regulatory Commission.
Eric J. Leeds,
Director, Office of Nuclear Reactor Regulation.

[FR Doc. 2011-8189 Filed 4-5-11; 8:45 am]

BILLING CODE 7590-01-P